DEPARTMENT OF HEALTH AND HUMAN SERVICES

Health Resources and Services Administration

National Advisory Committee on Rural Health and Human Services; Notice of Meeting

In accordance with section 10(a)(2) of the Federal Advisory Committee Act (Pub. L. 92-463), notice is hereby given of the following meeting:

Name: National Advisory Committee on Rural Health and Human Services.

Dates and Time: September 9, 2015, 8:45 a.m.-5:00 p.m. CDT, September 10, 2015, 8:30 a.m.-5:15 p.m. CDT, September 11, 2015, 8:30 a.m.-11:00 a.m. CDT.

Place: Shooting Star Hotel, 777 S Casino Road, Mahnomen, Minnesota 56557, (800) 453-7827.

Status: The meeting will be open to the public.

Purpose: The National Advisory Committee on Rural Health and Human Services provides counsel and recommendations to the Secretary with respect to the delivery, research, development, and administration of health and human services in rural areas.

Agenda: The meeting on Wednesday, September 9, will be called to order at 8:45 a.m. by the Chairperson of the Committee, the Honorable Ronnie Musgrove. The Committee will examine the issue of Health Care Delivery System Reform in rural areas and the issue of Rural Child Poverty. The day will conclude with a period of public comment at approximately 4:45 p.m.

The Committee will break into Subcommittees and depart for site visits Thursday morning, September 10, at approximately 8:30 a.m. Subcommittees will visit the Otter Tail County Public Health Department in Fergus Falls, Minnesota, and the Sanford Heath Detroit Lakes Clinic in Detroit Lakes, Minnesota. The day will conclude at the Shooting Star Hotel with a period of public comment at approximately 5:00 p.m.

The Committee will meet to summarize key findings and develop a work plan for the next quarter and the following meeting on Friday morning, September 11, at 8:30 a.m.

For Further Information Contact: Steve Hirsch, MSLS, Executive Secretary, National Advisory Committee on Rural Health and Human Services, Health Resources and Services Administration, Parklawn Building, 17W29-C, 5600 Fishers Lane, Rockville, MD 20857, Telephone (301) 443-0835, Fax (301) 443-2803.

Persons interested in attending any portion of the meeting should contact Pierre Joseph at the Federal Office of Rural Health Policy (FORHP) via telephone at (301) 945-0897 or by email at PJoseph@hrsa.gov. The Committee meeting agenda will be posted on the Committee's Web site at http://www.hrsa.gov/advisorycommittees/rural/.

Jackie Painter,
Director, Division of the Executive Secretariat.

[FR Doc. 2015-19546 Filed 8-7-15; 8:45 am]

BILLING CODE 4165-15-P